DEPARTMENT OF ENERGY

Federal Energy Regulatory Commission

[Docket Nos. RP00-331-000 and RP01-23-000]

Algonquin Gas Transmission Company; Notice of Technical Conference

December 12, 2000.

On June 15, 2000, Algonquin Gas Transmission Company (Algonquin) submitted a filing to comply with Order No. 637. Several parties have protested various aspects of Algonquin's filing. Subsequently, on October 2, 2000, Algonquin submitted a filing in Docket No. RP01-23-000 to comply with Order Nos. 587-G and 587-L. The Commission accepted the 587-L filing subject to further consideration in Algonquin's Order No. 637 compliance proceeding.

Take notice that a technical conference to discuss the various issues raised by Algonquin's filings will be held on Wednesday, January 10, 2001, at 10 a.m. in a room to be designated at the offices of the Federal Energy Regulatory Commission, 888 First Street, NE., Washington, DC 20426. Parties protesting aspects of Algonquin's filings should be prepared to discuss alternatives.

All interested persons and Staff are permitted to attend.

David P. Boergers,
Secretary.

[FR Doc. 00-32073 Filed 12-15-00; 8:45 am]

BILLING CODE 6717-01-M